DEPARTMENT OF JUSTICE

[OMB Number 1140-0039]

Agency Information Collection Activities; Proposed eCollection eComments Requested; Extension Without Change, of a Previously Approved Collection; Federal Firearms Licensee Firearms Inventory Theft/Loss Report ATF F 3310.11

AGENCY: Bureau of Alcohol, Tobacco, Firearms and Explosives, Department of Justice.

ACTION: 60-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until November 30, 2015.

FOR FURTHER INFORMATION CONTACT: If you have comments especially on the estimated public burden or associated response time, suggestions, or need a copy of the proposed information collection instrument with instructions or additional information, please contact Larry Penninger, Larry.Penninger@atf.gov Chief, National Tracing Center, 244 Needy Road, Martinsburg, WV 20226.

SUPPLEMENTARY INFORMATION: Written comments and suggestions from the public and affected agencies concerning the proposed collection of information are encouraged. Your comments should address one or more of the following four points:

— Evaluate whether the proposed collection of information is necessary for the proper performance of the functions of the Bureau of Justice Statistics, including whether the information will have practical utility;

— Evaluate the accuracy of the agency's estimate of the burden of the proposed collection of information, including the validity of the methodology and assumptions used;

— Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Federal Firearms Licensee Firearms Inventory Theft/Loss Report.

3. The agency form number, if any, and the applicable component of the Department sponsoring the collection: The form number is ATF F 3310.11.

4. The applicable component within the Department of Justice is the Bureau of Alcohol, Tobacco, Firearms and Explosives.

5. Affected public who will be asked or required to respond, as well as a brief abstract: The information collection does not impact small business or other small entities. On September 12, 1994, the Violent Crime Control and Law Enforcement Act (The Crime Bill) was signed into law, amending the Gun Control Act of 1968 (GCA), as amended Section 923(g) of Title 18 United States Code states that “Each licensee shall report the theft or loss of a firearms from the licensee's inventory or collection within 48 hours after the theft or loss is discovered to the Attorney General and to the appropriate local authorities.”

ATF F 3310.11 is the method used to determine compliance with the provision of the Crime Bill. The title of this form “Federal Firearms Licensee Firearms Inventory Theft/Loss Report,” satisfies the provisions of the Act which requires that licensees report the theft or loss of firearms to the Attorney General and the appropriate authorities. The information on this form is required by 18 U.S.C. 923(g)(6).

A separate form is required for each theft/loss report. The form must be prepared in ink, signed and dated. Upon completion of this form by the licensee reporting the theft or loss of firearms, the original will be forwarded to the Firearms Interstate Theft Program Manager and a copy will be retained as part of the licensee's permanent records.

6. An estimate of the total number of respondents and the amount of time estimated for an average respondent to respond: An estimated 4,000 respondents will complete this form. Based on pilot testing, an average of 24 minutes per respondent is needed to complete form ATF F 3310.11.

7. An estimate of the total public burden (in hours) associated with the collection: The estimated public burden associated with this collection is 960 hours. It is estimated that respondents will take 24 minutes to complete a questionnaire. The burden hours for collecting respondent data sum to 4,000 (4,000 respondents × .24 hours = 960 hours).

If additional information is required contact: Jerri Murray, Department Clearance Officer, United States Department of Justice, Justice Management Division, Policy and Planning Staff, Two Constitution Square, 145 N Street NE., 3E.405B, Washington, DC 20530.

Dated: September 25, 2015.
Jerri Murray,
Department Clearance Officer for PRA, U.S. Department of Justice.

[FR Doc. 2015-24765 Filed 9-29-15; 8:45 am]

BILLING CODE 4410-FY-P